DEPARTMENT OF COMMERCE

International Trade Administration

[A-580-874]

Certain Steel Nails From the Republic of Korea: Preliminary Results of Antidumping Duty Administrative Review; 2022-2023

AGENCY: Enforcement and Compliance, International Trade Administration, Department of Commerce.

SUMMARY: The U.S. Department of Commerce (Commerce) preliminarily finds that certain producers/exporters subject to this administrative review made sales of subject merchandise at less than normal value (NV) during the period of review (POR), July 1, 2022, through June 30, 2023. In addition, Commerce is rescinding the review, in part, with respect to 116 companies which had no entries in the U.S. Customs and Border Protection (CBP) data. We invite interested parties to comment on these preliminary results.

DATES: Applicable August 12, 2024.

FOR FURTHER INFORMATION CONTACT: Anne Entz or Ian Riggs, AD/CVD Operations, Office IX, Enforcement and Compliance, International Trade Administration, U.S. Department of Commerce, 1401 Constitution Avenue NW, Washington, DC 20230; telephone: (202) 482-3845 or (202) 482-3810, respectively.

SUPPLEMENTARY INFORMATION:

Background

On July 13, 2015, Commerce published the antidumping duty order on certain steel nails (steel nails) from the Republic of Korea (Korea) in the Federal Register.¹ On September 11, 2023, based on timely requests for review, we initiated an administrative review of the Order covering 123 companies, in accordance with section 751(a) of the Tariff Act of 1930, as amended (the Act).² On March 18, 2024, Commerce extended the deadline for the preliminary results of this administrative review to July 30, 2024.³ On July 22, 2024, Commerce tolled certain deadlines in this administrative proceeding by seven days.⁴ The deadline for the preliminary results is now August 6, 2024. For a complete description of the events that followed the initiation of this review, see the Preliminary Decision Memorandum.⁵

¹ See Certain Steel Nails from the Republic of Korea, Malaysia, the Sultanate of Oman, Taiwan, and the Socialist Republic of Vietnam: Antidumping Duty Orders, 80 FR 39994 (July 13, 2015) (Order).

² See Initiation of Antidumping and Countervailing Duty Administrative Reviews, 88 FR 62322 (September 11, 2023).

³ See Memorandum, “Extension of Deadline for Preliminary Results of 2022-2023 Antidumping Duty Administrative Review,” dated March 18, 2024.

⁴ See Memorandum, “Tolling of Deadlines for Antidumping and Countervailing Duty Proceedings,” dated July 22, 2024.

⁵ See Memorandum, “Decision Memorandum for the Preliminary Results of the 2022-2023 Administrative Review of the Antidumping Duty Order on Certain Steel Nails from the Republic of Korea,” dated concurrently with, and hereby adopted by, this notice (Preliminary Decision Memorandum).

Scope of the Order

The products subject to the Order are certain steel nails (steel nails) from the Republic of Korea (Korea). For a full description of the scope of the Order, see the Preliminary Decision Memorandum.

Partial Rescission of Administrative Review

Pursuant to 19 CFR 351.213(d)(3), Commerce will rescind an administrative review when there are no reviewable entries of subject merchandise during the POR for which liquidation is suspended.⁶ Normally, upon completion of an administrative review, the suspended entries are liquidated at the antidumping duty assessment rate calculated for the review period.⁷ Therefore, for an administrative review to be conducted, there must be a suspended entry that Commerce can instruct CBP to liquidate at the antidumping duty assessment rate calculated for the POR.⁸

⁶ See, e.g., Dioctyl Terephthalate from the Republic of Korea: Rescission of Antidumping Administrative Review; 2021-2022, 88 FR 24758 (April 24, 2023); see also Certain Carbon and Alloy Steel Cut-to-Length Plate from the Federal Republic of Germany: Recission of Antidumping Administrative Review; 2020-2021, 88 FR 4157 (January 24, 2023).

⁷ See 19 CFR 351.212(b)(1).

⁸ See 19 CFR 351.213(d)(3).

On December 20, 2023, we notified all interested parties of our intent to rescind this review, in part, with respect to the 116 companies listed in Appendix III because there were no suspended entries of subject merchandise produced or exported by these companies during the POR and we invited interested parties to comment.⁹ We received no comments on the Intent to Rescind Memorandum. Accordingly, Commerce is rescinding this review with respect to the companies listed in Appendix III, in accordance with 19 CFR 351.213(d)(3).

⁹ See Memorandum, “Notice of Intent to Rescind Review, in Part,” dated December 20, 2023 (Intent to Rescind Memorandum).

Methodology

Commerce is conducting this review in accordance with section 751(a) of the Act. We calculated export price and constructed export price in accordance with section 772 of the Act. We calculated NV in accordance with section 773 of the Act. For a full description of the methodology underlying these preliminary results, see the Preliminary Decision Memorandum. A list of topics discussed in the Preliminary Decision Memorandum is attached as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade/gov/public/FRNoticesListLayout.aspx.

Rate for Companies Not Selected for Individual Examination

The statute and Commerce's regulations do not address the rate to be determined for companies not selected for individual examination when Commerce limits its examination in an administrative review pursuant to section 777A(c)(2) of the Act. Generally, Commerce looks to section 735(c)(5) of the Act, which provides instructions for calculating the all-others rate in a market economy less-than-fair-value (LTFV) investigation, for guidance when calculating the rate for companies which were not selected for individual examination in an administrative review. Under section 735(c)(5)(A) of the Act, the all-others rate is normally “an amount equal to the weighted average of the estimated weighted average dumping margins established for exporters and producers individually investigated, excluding any zero or de minimis margins, and any margins determined entirely {on the basis of facts available}.”

We preliminarily calculated a dumping margin of zero for one of the two mandatory respondents, Korea Wire Co., Ltd. (KOWIRE). Therefore, we have preliminarily assigned a dumping margin to the companies not selected for individual examination in this review based on the rate calculated for the other mandatory respondent, Nailtech Co., Ltd. (Nailtech). See Appendix II.

Preliminary Results of Review

We preliminarily determine the following estimated weighted-average dumping margins exist for the period July 1, 2022, through June 30, 2023:

Producer/exporter | Weighted- average dumping margin (percent)
Korea Wire Co., Ltd | 0.00
Nailtech Co., Ltd | 2.43
Companies Not Selected for Individual Examination ¹⁰ | 2.43

Disclosure and Public Comment

¹⁰ See Appendix II.

We intend to disclose the calculations performed in connection with these preliminary results to interested parties within five days after the date of publication of this notice in the Federal Register.¹¹ Pursuant to 19 CFR 351.309(c), interested parties may submit case briefs no later than 30 days after the date of publication of this notice. Rebuttal briefs, limited to issues raised in the case briefs, may be filed not later than five days after the date for filing case briefs.¹² Interested parties who submit case briefs or rebuttal briefs in this administrative review must submit: (1) a table of contents listing each issue; and (2) a table of authorities.¹³

¹¹ See 19 CFR 351.224(b).

¹² See 19 CFR 351.309(d)(1); see also Administrative Protective Order, Service, and Other Procedures in Antidumping and Countervailing Duty Proceedings, 88 FR 67069, 67077 (September 29, 2023) (APO and Service Final Rule).

¹³ See 19 CFR 351.309(c)(2) and (d)(2).

As provided under 19 CFR 351.309(c)(2) and (d)(2), in prior proceedings, we have encouraged interested parties to provide an executive summary of their brief that should be limited to five pages total, including footnotes. In this review, we instead request that interested parties provide, at the beginning of their briefs, a public executive summary for each issue raised in their briefs.¹⁴ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁵

¹⁴ We use the term “issue” here to describe an argument that Commerce would normally address in a comment of the Issues and Decision Memorandum.

¹⁵ See APO and Service Final Rule, 88 FR at 67077.

Pursuant to 19 CFR 351.310(c), interested parties who wish to request a hearing must submit a written request to the Assistant Secretary for Enforcement and Compliance, filed electronically via ACCESS within 30 days after the date of publication of this notice. Requests should contain: (1) the party's name, address, and telephone number; (2) the number of participants; and (3) a list of issues to be discussed. Issues raised in the hearing will be limited to those raised in the respective case briefs. Oral presentations at the hearing will be limited to issues raised in the briefs. If a request for a hearing is made, parties will be notified of the time and date for the hearing.¹⁶ Parties should confirm the date and time of the hearing two days before the scheduled date.

¹⁶ See 19 CFR 351.310(d).

All submissions, including case and rebuttal briefs, as well as hearing requests, should be filed via ACCESS.¹⁷ An electronically filed document must be received successfully in its entirety by ACCESS by 5:00 p.m. Eastern Time on the established deadline.

¹⁷ See 19 CFR 351.303.

Assessment Rates

Upon completion of this administrative review, Commerce shall determine, and CBP shall assess, antidumping duties on all appropriate entries covered by this review. Pursuant to 19 CFR 351.212(b)(1), because both respondents reported the entered value for their U.S. sales, we calculated importer-specific ad valorem duty assessment rates based on the ratio of the total amount of dumping calculated for the examined sales to the total entered value of those sales. Where either the respondent's weighted-average dumping margin is zero or de minimis within the meaning of 19 CFR 351.106(c)(1), or an importer specific assessment rate is zero or de minimis, we will instruct CBP to liquidate the appropriate entries without regard to antidumping duties.

Commerce's “automatic assessment” practice will apply to entries of subject merchandise during the POR produced by KOWIRE or Nailtech for which these companies did not know that the merchandise they sold to an intermediary (e.g., a reseller, trading company, or exporter) was destined for the United States. We will instruct CBP to liquidate those entries at the all-others rate if there is no rate for the intermediate company(ies) involved in the transaction.¹⁸

¹⁸ For a full discussion of this practice, see Antidumping and Countervailing Duty Proceedings: Assessment of Antidumping Duties, 68 FR 23954 (May 6, 2003).

For the companies which were not selected for individual review, we intend to assign an assessment rate based on the review-specific rate, calculated as noted in the “Rate for Companies Not Selected for Individual Examination” section, above. The final results of this review shall be the basis for the assessment of antidumping duties on entries of merchandise covered by this review and for future deposits of estimated duties, where applicable.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies listed in Appendix III for which we are rescinding this review, we will instruct CBP to assess antidumping duties on all appropriate entries at a rate equal to the cash deposit of estimated antidumping duties required at the time of entry, or withdrawal from warehouse, in accordance with 19 CFR 351.212(c)(l)(i). Commerce intends to issue these rescission instructions to CBP no earlier than 35 days after the date of publication of this notice in the Federal Register.

Cash Deposit Requirements

The following deposit requirements will be effective for all shipments of the subject merchandise entered, or withdrawn from warehouse, for consumption on or after the publication date of the final results of this administrative review, as provided by section 751(a)(2)(C) of the Act: (1) the cash deposit rate for the company listed above will be equal to the weighted average dumping margin established in the final results of this administrative review, except if the rate is less than 0.50 percent and therefore, de minimis within the meaning of 19 CFR 351.106(c)(1), in which case the cash deposit rate will be zero; (2) for previously reviewed or investigated companies not covered in this review, the cash deposit rate will continue to be the company-specific rate published for the most recently-completed segment of this proceeding in which the company was reviewed; (3) if the exporter is not a firm covered in this review, a prior review, or the LTFV investigation, but the producer is, then the cash deposit rate will be the rate established for the most recently-completed segment of this proceeding for the producer of the merchandise; and (4) the cash deposit rate for all other producers or exporters will continue to be 11.80 percent, the all-others rate established in the LTFV investigation.¹⁹ These cash deposit requirements, when imposed, shall remain in effect until further notice.

¹⁹ See Order.

Final Results of Review

Unless otherwise extended, Commerce intends to issue the final results of this administrative review, including the results of its analysis of the issues raised in any written briefs, no later than 120 days after the date of publication of this notice in the Federal Register, pursuant to section 751(a)(3)(A) of the Act and 19 CFR 351.213(h)(1).

Notification to Importers

This notice serves as a preliminary reminder to importers of their responsibility under 19 CFR 351.402(f)(2) to file a certificate regarding the reimbursement of antidumping and/or countervailing duties prior to liquidation of the relevant entries during this POR. Failure to comply with this requirement could result in Commerce's presumption that reimbursement of antidumping duties occurred and the subsequent assessment of doubled antidumping duties.

Notification to Interested Parties

We are issuing and publishing these results in accordance with sections 751(a)(1) and 777(i)(1) of the Act, and 19 CFR 351.221(b)(4).

Dated: August 5, 2024.
Scot Fullerton,
Acting Deputy Assistant Secretary for Antidumping and Countervailing Duty Operations.

Appendix I

List of Topics Discussed in the Preliminary Decision Memorandum

I. Summary

II. Background

III. Scope of the Order

IV. Discussion of the Methodology

V. Recommendation

Appendix II

Companies Not Selected for Individual Examination

1. Daejin Steel Company

2. Hanmi Staple Co., Ltd.

3. Je-il Wire Production Co., Ltd.

4. Koram Inc.

5. Youngwoo Fasteners Co., Ltd.

Appendix III

Companies for Which Commerce Is Rescinding the Review

1. Agl Co., Ltd.

2. Ansing Fasteners Co. Ltd.

3. Astrotech Steels Private Limited.

4. Beijing Catic Industry Limited.

5. Beijing Jinheung Co., Ltd.

6. Big Mind Group Co., Ltd.

7. Changzhou Kya Trading Co., Ltd.

8. China Staple Enterprise Tianjin Co. Ltd.

9. CMT Co. Ltd.

10. D&F Material Products Ltd.

11. De Well Group Korea Co., Ltd.

12. Dezhou Hualude Hardware Products Co. Ltd.

13. DLF Industry Co., Limited.

14. Dong Yang Chemical Co. Ltd.

15. Doublemoon Hardware Company Ltd.

16. DT China (Shanghai) Ltd.

17. Dugwoo Co. Ltd.

18. Ejen Brothers Limited.

19. England Rich Group (China) Ltd.

20. Ever Leading International Inc.

21. Fastgrow International Co., Inc.

22. Geekay Wires Limited.

23. Glovis America, Inc.

24. GWP Industries (Tianjin) Co., Ltd.

25. Haas Automation Inc.

26. Handuk Industrial Co., Ltd.

27. Hanwoo Industrial Co. Ltd.

28. Hebei Cangzhou New Century Foreign Trade Co., Ltd.

29. Hebei Longshengyuan Trade Co Ltd.

30. Hebei Minmetals Co., Ltd.

31. Hebei Shinyee Trade Co. Ltd.

32. Hengtuo Metal Products Company Limited.

33. Home Value Co., Ltd.

34. Hongyi (Hk) Hardware Products Co., Limited.

35. Hongyi (Hk) Industrial Co., Limited.

36. Huanghua RC Business Co., Ltd.

37. Huanghua Yingjin Hardware Products Co., Ltd.

38. HWA Shin Bolt Ind. Co. Ltd.

39. Inmax Industries Sdn. Bhd.

40. JCD Group Co., Limited.

41. Jining Jufu International Trade Co.

42. Jushiqiangsen (Tianjin) International Trade Co., Ltd.

43. Kabool Fasteners Co. Ltd.

44. KB Steel.

45. Kerry-Apex (Thailand) Co., Ltd.

46. KPF Co., Ltd.

47. Kuehne & Nagel Ltd.

48. Linyi Double-Moon Hardware Products Co., Ltd.

49. Linyi Flyingarrow Imp. & Exp. Co., Ltd.

50. Linyi Jianchengde Metal Hardware Co.

51. Linyi Yitong Chain Co., Ltd.

52. Manho Rope and Wire Ltd.

53. Max Co., Ltd.

54. Mingguang Ruifeng Hardware Products Co., Ltd.

55. Nanjing Senqiao Trading Co., Ltd.

56. Needslink, Inc.

57. Ocean King International Industries Limited.

58. Paslode Fasteners (Shanghai) Co., Ltd.

59. Peace Industries Ltd. Korea.

60. Peace Korea Co., Ltd.

61. Qingdao Ant Hardware Manufacturing Co., Ltd.

62. Qingdao Best World Industry-Trading Co., Ltd.

63. Qingdao Cheshire Trading Co., Ltd.

64. Qingdao Hongyuan Nail Industry Co., Ltd.

65. Qingdao JCD Machinery Co., Ltd.

66. Qingdao Jiawei Industry Co., Limited.

67. Qingdao Jisco Co., Ltd.

68. Qingdao Master Metal Products Co., Ltd.

69. Qingdao Meijialucky Industry and Co.

70. Qingdao Mst Industry and Commerce Co., Ltd.

71. Qingdao Ruitai Trade Co., Ltd.

72. Qingdao Shantron Int'l Trade Co., Ltd.

73. Qingdao Shenghengtong Metal Products Co., Ltd.

74. Qingdao Sunrise Metal Products Co., Ltd.

75. Qingdao Tian Heng Xiang Metal Products Co., Ltd.

76. Qingdao Top Metal Industrial Co., Ltd.

77. Rewon Systems, Inc.

78. Rise Time Industrial Ltd.

79. Salt International Co. Ltd.

80. Shandong Dominant Source Group Co., Ltd.

81. Shandong Guomei Industry Co., Ltd.

82. Shanghai Curvet Hardware Products Co., Ltd.

83. Shanghai Goldenbridge International Co., Ltd.

84. Shanghai Pinnacle International Trading Co., Ltd.

85. Shanghai Zoonlion Industrial Co., Ltd.

86. Shanxi Pioneer Hardware Industrial Co., Ltd.

87. Shanxi Sanhesheng Trade Co., Ltd.

88. Shaoxing Bohui Import & Export Co., Ltd.

89. Shijiazhuang Tops Hardware Manufacturing Co., Ltd.

90. Shijiazhuang Yajiada Metal Products Co., Ltd.

91. Shin Jung TMS Corporation Ltd.

92. Shinheung Industry Co.

93. SSS Hardware International Trading Co., Ltd.

94. Storeit Services LLP.

95. Tangshan Jason Metal Materials Co., Ltd.

96. Test Rite International Co., Ltd.

97. The Inno Steel Industry Company.

98. Tianjin Bluekin Industries Limited.

99. Tianjin Coways Metal Products Co., Ltd.

100. Tianjin Hweschun Fasteners Manufacturing Co. Ltd.

101. Tianjin Jinchi Metal Products Co., Ltd.

102. Tianjin Jinghai County Hongli Industry and Business Co., Ltd.

103. Tianjin Jinzhuang New Material Sci Co., Ltd.

104. Tianjin Lianda Group Co., Ltd.

105. Tianjin Zhonglian Metals Ware Co., Ltd.

106. Tianjin Zhonglian Times Technology Co., Ltd.

107. Un Global Company Limited.

108. Unicorn (Tianjin) Fasteners Co., Ltd.

109. United Company for Metal Products.

110. W&K Corporation Limited.

111. Weifang Wenhe Pneumatic Tools Co., Ltd.

112. Wulian Zhanpengmetals Co., Ltd.

113. Xian Metals And Minerals Import And Export Co., Ltd.

114. Youone Fastening Systems.

115. Zhangjiagang Lianfeng Metals Products Co., Ltd.

116. Zhaoqing Harvest Nails Co., Ltd.

[FR Doc. 2024-17903 Filed 8-9-24; 8:45 am]

BILLING CODE 3510-DS-P